DEPARTMENT OF ENERGY

Federal Energy Regulatory Commission

[Docket No. RM07-3-002]

North American Electric Reliability Corporation; Notice of Filing

April 11, 2008.

Take notice that on April 1, 2008, the North American Electric Reliability Corporation (NERC) made a compliance filing submitting modifications to Violation Risk Factors for ten Requirements in the Facilities Design, Connections and Maintenance (FAC) Reliability Standards as directed in Order No. 705, the Commission's Final Rule approving as mandatory and enforceable the FAC Reliability Standards. Facilities Design, Connections and Maintenance Reliability Standard, Order No. 705, 73 FR 1770 (January 9, 2008), 121 FERC ¶ 61,296, P 135 (2007). NERC is the Commission-certified Electric Reliability Organization responsible for developing and enforcing mandatory Reliability Standards. Order No. 705 was issued on December 27, 2007.

Any person desiring to comment or to protest this filing must file in accordance with Rule 211 of the Commission's Rules of Practice and Procedure (18 CFR 385.211). Protests will be considered by the Commission in determining the appropriate action to be taken. Comments or protests must be filed on or before the comment date.

The Commission encourages electronic submission of comments and protests in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 22, 2008.

Kimberly D. Bose,
Secretary.

[FR Doc. E8-8485 Filed 4-18-08; 8:45 am]

BILLING CODE 6717-01-P